DEPARTMENT OF STATE

[Delegation of Authority: 437]

Delegation of Authority to the Director of the Office of U.S. Foreign Assistance Resources To Concur in Assistance Programs

By virtue of the authority vested in the Secretary of State, including section 1 of the State Department Basic Authorities Act (22 U.S.C. 2651a) and 10 U.S.C. 333, I hereby delegate to the Director the Office of U.S. Foreign Assistance Resources, to the extent authorized by law, the authority to concur in programs authorized by section 333 of title 10 of the U.S. Code.

Notwithstanding this delegation of authority, any function or authority delegated herein may be exercised by the Secretary or a Deputy Secretary. Any reference in this delegation of authority to any statute or delegation of authority shall be deemed to be a reference to such statute or delegation of authority as amended from time to time.

This delegation of authority shall be published in the Federal Register.

Dated: May 1, 2017.
Rex W. Tillerson,
Secretary of State.

[FR Doc. 2017-15226 Filed 7-19-17; 8:45 am]

BILLING CODE 4710-10-P